DEPARTMENT OF TRANSPORTATION

Federal Aviation Administration

Notice of Intent To Rule on a Land Release Request for Disposal of Airport Property at Dinwiddie County Airport, Petersburg, VA

AGENCY: Federal Aviation Administration (FAA), Department of Transportation (DOT).

ACTION: Notice of request for a disposal of on-airport property.

SUMMARY: The FAA proposes to rule and invites public comment on Dinwiddie Airport and Industrial Authority's request to dispose of 44.24 acres of federally obligated airport property at Tri Cities Executive/Dinwiddie County Airport, Petersburg, VA. This acreage was originally conveyed to the airport by the United States of America under the Federal Property and Administrative Services Act and the Surplus Property Act. The proposed use of land after the release will be compatible with the airport and will not interfere with airport or its operation.

DATES: Send comments on or before May 1, 2025.

FOR FURTHER INFORMATION CONTACT:

Jeremy Pultz, Airport Manager, Tri Cities Executive/Dinwiddie County Airport, 6775 Beck-Chappell Drive, Petersburg, VA 23803, (804) 861-0218

and at the FAA Washington Airports District Office:

Matthew J. Thys, Manager, Washington Airports District Office, 13873 Park Center Road, Suite 490S, Herndon, VA 20171, (703) 487-3980

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition on surplus property on a federally obligated airport. The following is a brief overview of the request.

The Dinwiddie Airport and Industrial Authority has submitted a land release request seeking FAA approval for the disposal of 44.24 acres of federally obligated airport property. The property is located approximately 1000 feet northwest of the airport's primary runway, Runway 5/23, and includes the northern portion of former crosswind Runway 14/32 which was deactivated in 2014. Runway 14/32 was deactivated after the FAA determined that a crosswind runway for the airport was not necessary because Runway 5/23 provides greater than 95% wind coverage during all weather conditions and that the continued upkeep of Runway 14/32 was not eligible for federal grant funding. The parcel is not currently required or anticipated to be required for aeronautical use.

The 44.24 acres of land to be released was originally conveyed as part of a 602-acre, more or less, parcel through provisions of the Federal Property and Administrative Services Act of 1949 and the Surplus Property Act of 1944. Subsequent to the implementation of the proposed disposal, monies received by the airport from the sale of the property will be used in accordance with 14 CFR part 155. The proposed use of the property will not interfere with the airport or its operation.

Issued in Herndon, Virginia.
Matthew J. Thys,
Manager, Washington Airports District office.

[FR Doc. 2025-05525 Filed 3-31-25; 8:45 am]

BILLING CODE 4910-13-P